DEPARTMENT OF AGRICULTURE

Grain Inspection, Packers and Stockyards Administration

7 CFR Part 800

RIN 0580-AB13

Reauthorization of the United States Grain Standards Act

Correction

In Proposed Rule document 2016-01083 beginning on page 3970 in the issue of Monday, January 25, 2016, make the following correction:

On page 3975, in the third column, preceding amendatory instruction 7 insert the following text:

§ 800.72 [Amended]

▪ 6. In § 800.72(b), remove the reference “§ 800.71” from the first sentence and add in its place the reference “§ 800.71(a)(1)”.

[FR Doc. C1-2016-01083 Filed 2-4-16; 8:45 am]

BILLING CODE 1505-01-D